DEPARTMENT OF HOMELAND SECURITY

Coast Guard

33 CFR Part 165

[Docket No. USCG-2010-0457]

RIN 1625-AA00

Safety Zone; Fixed Mooring Balls, South of Barbers Pt. Harbor Channel, Oahu, HI

AGENCY: Coast Guard, DHS.

ACTION: Temporary final rule.

SUMMARY: Due to the placement of six fixed mooring balls in an area south of Barbers Pt. Harbor Channel, the Coast Guard is establishing a temporary safety zone around the mooring balls. This safety zone is needed to protect persons and vessels from safety hazards associated with navigation in the area of the mooring balls. Entry into this zone would be prohibited unless specifically authorized by the Captain of the Port Upper Mississippi River or a designated representative.

DATES: This rule is effective from 6 a.m. on July 1, 2010 through 6 p.m. on July 21, 2010.

ADDRESSES: Documents indicated in this preamble as being available in the docket are part of docket USCG-2010-0457 and are available online by going to http://www.regulations.gov, inserting USCG-2010-0457 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lieutenant Commander Marcella Granquist, Waterways Management Division, U.S. Coast Guard Sector Honolulu, telephone 808-842-2600, e-mail Marcella.A.Granquist@uscg.mil. If you have questions on viewing or submitting material to the docket, call Renee V. Wright, Program Manager, Docket Operations, telephone 202-366-9826.

SUPPLEMENTARY INFORMATION:

Regulatory Information

The Coast Guard is issuing this final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule. The Coast Guard finds that it would be impracticable to publish a NPRM with respect to this rule because the event would occur before the rulemaking process could be completed.

Basis and Purpose

In 2010, Fourth Mate Productions formally proposed placing six fixed mooring balls approximately 2,500 yards south of Barbers Point channel buoy #2. The mooring balls will be placed in a 133-yard (121-meter) circular design for preapproved vessel mooring purposes. For ease of identification, these mooring balls will be monitored by a small boat during daylight hours and will be illuminated with a single flashing white light on each of the six mooring balls during non-daylight hours. With the State of Hawaii's permission and after pre-planning meetings with various members of the maritime community including environmental officials, a safety zone was determined to be appropriate by the Captain of the Port (COTP) to ensure safe transit in and around the fixed mooring balls by vessels and the general public.

Discussion of Rule

The Coast Guard is establishing a temporary 400-yard (366-meter) radius safety zone around position 21°18′35.00″ N, 158°07′33.00″ W, approximately 2,500 yards south of Barbers Point Harbor channel buoy #2, Oahu, Hawaii. Entry of persons, vessels or other watercraft into this temporary safety zone is prohibited unless authorized by the Captain of the Port. This safety zone extends from the surface of the water to the ocean floor. All vessels are requested to pass to the west, or makai side, of the Safety Zone to avoid grounding on the shallow and live coral reef area between the safety zone and the shoreline. Vessels desiring to transit through the safety zone can request permission by contacting the Honolulu Captain of the Port at 808-563-9906 or 808-842-2600. The safety zone will be enforced from 6 a.m. on July 1, through 6 p.m. on July 21, 2010. The COTP may cease enforcement of the zone earlier if conditions warrant.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

Although this rule restricts access to the waters encompassed by the safety zone, the effect of this rule will not be significant because vessels will be able to transit around the safety zone. Vessels may also transit through the safety zone with permission from the COTP.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. While the safety zone is being enforced, vessels will be able to transit around the safety zone. Furthermore, vessels will be allowed to transit through the temporary safety zone if permission to enter is granted from the COTP.

Assistance for Small Entities

Under section 213(a) of the Small Business Regulatory Enforcement Fairness Act of 1996 (Public Law 104-121), we offer to assist small entities in understanding this rule so that they can better evaluate its effects on them and participate in the rulemaking. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the effects of this rule elsewhere in this preamble.

Taking of Private Property

This rule would not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions which do not individually or cumulatively have a significant effect on the human environment. This rule is categorically excluded, under figure 2-1, paragraph (34)(h), of the Instruction. This rule involves the establishment of a safety zone. An environmental analysis checklist and a categorical exclusion determination are available in the docket where indicated under ADDRESSES.

List of Subjects in 33 CFR Part 165

Harbors, Marine safety, Navigation (water), Reporting and recordkeeping requirements, Security measures, Waterways.

For the reasons discussed in the preamble, the Coast Guard is amending 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Add § 165.T14-204 to read as follows:

§ 165.T14-204 Safety Zone; Fixed Mooring Balls, South of Barbers Pt Harbor Channel, Oahu, Hawaii.

(a) Location. The following area is a safety zone: All waters contained within a 400-yard radius (366-meter) radius around position 21°18′35.00″ N., 158°07′33.00″ W. This position is approximately 2,500 yards south of Barbers Point Harbor channel buoy #2, Oahu, Hawaii. This Safety Zone will have six (6), 24-inch white mooring balls with a single blue reflective stripe. The mooring balls will be placed 133 yards (121 meters) in a circular design for preapproved vessel mooring purposes. This safety zone extends from the surface of the water to the ocean floor. These coordinates are based upon the National Oceanic and Atmospheric Administration Coast Survey, Pacific Ocean, Oahu, Hawaii, chart 19357.

(b) Regulations. (1) Entry into or remaining in the safety zone described in paragraph (a) of this section is prohibited unless authorized by the Coast Guard Captain of the Port Honolulu zone.

(2) Persons desiring to transit the safety zone may contact the Honolulu Captain of the Port on VHF channel 81A (157.075 MHz), VHF channel 16 (156.800 MHz), or at telephone numbers 1-808-563-9906 or 808-842-2600 to seek permission to transit the area with a designated escort vessel. If permission is granted, all persons and vessels must comply with the instructions of the Captain of the Port or his or her designated representative. All other vessels are requested to pass to the west, or makai side, of the Safety Zone to avoid grounding on the shallow and live coral reef area located between the safety zone and the shoreline.

(c) Enforcement period. This rule will be enforced from 6 a.m. on July 1, 2010 until 6 p.m. on July 21, 2010 or unless canceled earlier by the Captain of the Port.

(d) Regulations. In accordance with the general regulations in 33 CFR part 165, Subpart C, no person or vessel may enter or remain in the zone except for support vessels/aircraft and support personnel, or other vessels authorized by the Captain of the Port or his designated representatives.

(e) Penalties. Vessels or persons violating this rule are subject to the penalties set forth in 33 U.S.C. 1232 and 50 U.S.C. 192.

Dated: June 18, 2010.
B. A. Compagnoni,
Captain, U.S. Coast Guard, Captain of the Port Honolulu.

[FR Doc. 2010-15969 Filed 6-30-10; 8:45 am]

BILLING CODE 9110-04-P